LEGAL SERVICES CORPORATION

Sunshine Act Meetings of the Board of Directors and the Board's Five Committees; Notice

Times and Dates: The Legal Services Corporation Board of Directors and five of the Board's Committees will meet on January 30 & 31, 2009 in the order set forth in the following schedule, with each meeting commencing promptly upon adjournment of the immediately preceding meeting.

Public Observation by Telephone: Members of the public who wish to listen to the open portions of the meetings live may do so by following the telephone call-in directions given below. You are asked to keep your telephone muted to eliminate background noises. Comments from the public may from time to time be solicited by the presiding Chairman.

Call-In Directions for Open Sessions:

Friday, January 30, 2009

• Call toll-free number: 1-800-247-9979;

• When prompted, enter the following numeric pass code: 82624085;

• When connected to the call, please “MUTE” your telephone immediately.

Saturday, January 31, 2009

• Call toll-free number: 1-800-247-9979;

• When prompted, enter the following numeric pass code: 82625239;

• When connected to the call, please “MUTE” your telephone immediately.

MEETING SCHEDULE/TIME:¹

¹ Please note that all times in this notice are Eastern Daylight Time.

Friday, January 30, 2009

1. Provision for the Delivery of Legal Services Committee (“Provisions Committee”).—1 p.m.

2. Operations & Regulations Committee.

Saturday, January 31, 2009

3. Governance and Performance Review Committee.—9 a.m.

4. Finance Committee.

5. Audit Committee.

6. Board of Directors.

Location: Legal Services Corporation, 3333 K Street, NW., Washington, DC 20007.

Status of Meetings: Open, except as noted below.

January 30, 2009 Board of Directors Meeting—Open, except that a portion of the meeting of the Board of Directors may be closed to the public pursuant to a vote of the Board of Directors to consider and perhaps act on the General Counsel's report on potential and pending litigation involving LSC. A verbatim written transcript of the session will be made. The transcript of any portions of the closed session falling within the relevant provisions of the Government in the Sunshine Act, 5 U.S.C. 552b(c)(10), and the corresponding provisions of the Legal Services Corporation's implementing regulation, 45 CFR 1622.5(h), will not be available for public inspection. A copy of the General Counsel's Certification that the closing is authorized by law will be available upon request.

Matters to be Considered:

Friday, January 30, 2009

Provision for the Delivery of Legal Services Committee

Agenda

1. Approval of agenda.

2. Approval of the minutes of the Committee's October 31, 2008 meeting

3. Staff Update on activities implementing the LSC Private Attorney Involvement Action Plan—Help Close the Justice Gap: Unleash the Power of Pro Bono.

a. PAI Honor Roll.

b. PAI Advisory Group.

c. Law School Activities.

4. Staff Update on Pilot Loan Repayment Assistance Program.

5. Staff Update on Native American Delivery and Funding—Data Analysis Process.

6. Staff Update on Cooperative Agreement with the College of Law Practice Management.

7. Public comment.

8. Consider and act on other business.

9. Consider and act on adjournment of meeting.

Operations and Regulations Committee

Agenda

1. Approval of agenda.

2. Approval of the minutes of the Committee's October 31, 2008 meeting.

3. Panel Presentation by Grantee Board Chairs on the Role of Grantee Boards of Directors in Grantee Governance and Oversight.

• Michael Doucette, Board Chair—Virginia Legal Aid Society.

• Robert Goodin, Board Chair—Bay Area Legal Aid (California).

• Diane Kutzko, Former Board Chair—Iowa Legal Aid.

• Marjorie Anne McDiarmid, Board Chair—Legal Aid of West Virginia.

• Fern Schair, Board Chair—Legal Services New York City.

4. Consider and act on rulemaking petition regarding financial eligibility requirements in disaster areas.

• Staff report.

• OIG comment.

• Public comment.

5. Discussion of the responsibilities of Independent Public Accountants.

• OIG report.

• Staff comment.

6. Staff report on LSC's FOIA function.

7. Consider and act on other business.

8. Other public comment.

9. Consider and act on adjournment of meeting.

Saturday, January 31, 2009

Governance and Performance Review Committee

Agenda

1. Approval of agenda.

2. Approval of minutes of the Committee's November 1, 2008 meeting.

3. Consider and act on self-assessment documents for 2008-2009.

• Committee Chairman's observations on individual self-assessments and possible follow-up.

• Committee Chairman's observations on results of the Board self-assessment and the upcoming full Board discussion.

4. Transition materials and plan for new Board orientation.

• Presentation by Victor Fortuno and John Constance.

5. Consider and act on other business.

6. Public comment.

7. Consider and act on motion to adjourn meeting.

Finance Committee

Agenda

1. Approval of agenda.

2. Approval of the minutes of the Committee's October 14, 2008 meeting.

3. Approval of the minutes of the Committee's November 1, 2008 meeting.

4. Staff report on FY 2009 Appropriations.

• Report by John Constance.

5. Consider and act on revised Temporary Operating Budget for FY 2009, Resolution 2009-001.

• Presentation by David Richardson.

• Comments by Charles Jeffress.

6. Presentation on LSC's Financial Reports for the first three months of FY 2009.

• Presentation by David Richardson.

• Comments by Charles Jeffress.

7. Public comment.

8. Consider and act on other business.

9. Consider and act on adjournment of meeting.

Audit Committee

Agenda

1. Approval of agenda.

2. Approval of minutes of the Committee's October 31, 2008 meeting.

3. Presentation of the Fiscal Year 2008 Annual Financial Audit.

• Jeffrey Schanz, Inspector General.

• Nancy Davis, WithumSmith+Brown.

• David Karakashian, WithumSmith+Brown.

4. Review of Form 990 for FY 2008.

5. Consider and act on the establishment of procedures for the receipt, retention, processing and resolution of complaints or expressions of concern regarding accounting, internal controls and auditing issues.

6. Public comment.

7. Consider and act on other business.

8. Consider and act on adjournment of meeting.

Board of Directors

Agenda

Open Session

1. Approval of agenda.

2. Approval of minutes of the Board's Open Session of November 1, 2008.

3. Approval of minutes of the Board's Open Session Telephonic meeting of November 20, 2008.

4. Chairman's Report.

5. Members' Reports.

6. President's Report.

7. Inspector General's Report.

8. Consider and act on the report of the Provision for the Delivery of Legal Services Committee.

9. Consider and act on the report of the Finance Committee.

10. Consider and act on the report of the Operations & Regulations Committee.

11. Consider and act on the report of the Audit Committee.

12. Consider and act on the report of the Board's 2008 Ad Hoc Committee Liaison.

13. Consider and act on the dissolution of the 2008 Ad Hoc Committee.

14. Consider and act on the report of the Governance & Performance Review Committee.

15. Consider and act on Board self-assessment.

16. Consider and act on the draft Risk Management Program for LSC.

17. Consider and act on nominations for the Chairman of the Board of Directors.

18. Consider and act on nominations for the Vice Chairman of the Board of Directors.

19. Consider and act on delegation of authority to Chairman to make Committee assignments.

20. Public comment.

21. Consider and act on whether to authorize an executive session of the Board to address items listed below under Closed Session.

Closed Session

22. Consider and act on General Counsel's report on potential and pending litigation involving LSC.

23. Consider and act on other business.

24. Consider and act on motion to adjourn meeting.

Contact Person for Information: Katherine Ward, Executive Assistant to the Vice President & General Counsel, at (202) 295-1500.

Special Needs: Upon request, meeting notices will be made available in alternate formats to accommodate visual and hearing impairments. Individuals who have a disability and need an accommodation to attend the meeting may notify Katherine Ward, at (202) 295-1500.

Dated: January 22, 2009.
Victor M. Fortuno,
Vice President & General Counsel.

[FR Doc. E9-1792 Filed 1-23-09; 4:15 pm]

BILLING CODE 7050-01-P